ENVIRONMENTAL PROTECTION AGENCY

[FRL-6962-6]

Village Custom Radiator Site, Hialeah, Florida Notice of Proposed Settlement

AGENCY: Environmental Protection Agency.

ACTION: Notice of Proposed Settlement.

SUMMARY: Under Section 122(h)(1) of the Comprehensive Environmental Response, Compensation, and Liability Act (CERCLA), the Environmental Protection Agency (EPA) has proposed to settle claims for response costs at the Village Custom Radiator Site located in Hialeah, Florida (Site), with Emanuel Alster. EPA will consider public comments on the proposed settlement for thirty (30) days. EPA may withdraw from or modify the proposed settlement should such comments disclose facts or considerations which indicate the proposed settlement is inappropriate, improper, or inadequate. Copies of the proposed settlement are available from: Ms. Paula V. Batchelor, U.S. Environmental Protection Agency, Region IV, CERCLA Program Services Branch, Waste Management Division, 61 Forsyth Street, SW., Atlanta, Georgia 30303, (404) 562-8887.

Written comments may be submitted to Ms. Batchelor at the above address within thirty (30) days of the date of publication.

Dated: March 15, 2001.
Franklin E. Hill, Chief,
CERCLA Program Services Branch, Waste Management Division.

[FR Doc. 01-8279 Filed 4-3-01; 8:45 am]

BILLING CODE 6560-50-P